DEPARTMENT OF TRANSPORTATION

Federal Aviation Administration

14 CFR Part 39

[Docket No. 2003-NM-12-AD]

RIN 2120-AA64

Airworthiness Directives; Airbus Model A300 B4-600, B4-600R, C4-605R Variant F, and F4-600R (Collectively Called A300-600), and A310 Series Airplanes

AGENCY: Federal Aviation Administration, DOT.

ACTION: Notice of proposed rulemaking (NPRM).

SUMMARY: This document proposes the adoption of a new airworthiness directive (AD) that is applicable to certain Airbus Model A300-600 and A310 series airplanes. This proposal would require modification of the attachment system of the insulation blankets of the forward cargo compartment and related corrective action. This action is necessary to prevent failure of the attachment system of the cargo insulation blankets, which could result in detachment and consequent tearing of the blankets. Such tearing could result in blanket pieces being ingested into and jamming the forward outflow valve of the pressure regulation subsystem, which could lead to cabin depressurization and adversely affect continued safe flight of the airplane. This action is intended to address the identified unsafe condition.

DATES: Comments must be received by May 6, 2004.

ADDRESSES: Submit comments in triplicate to the Federal Aviation Administration (FAA), Transport Airplane Directorate, ANM-114, Attention: Rules Docket No. 2003-NM-12-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2003-NM-12-AD” in the subject line and need not be submitted in triplicate. Comments sent via the Internet as attached electronic files must be formatted in Microsoft Word 97 or 2000 or ASCII text.

The service information referenced in the proposed rule may be obtained from Airbus, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2003-NM-12-AD.” The postcard will be date stamped and returned to the commenter.

Availability of NPRMs

Any person may obtain a copy of this NPRM by submitting a request to the FAA, Transport Airplane Directorate, ANM-114, Attention: Rules Docket No. 2003-NM-12-AD, 1601 Lind Avenue, SW., Renton, Washington 98055-4056.

Discussion

The Direction Générale de l'Aviation Civile (DGAC), which is the airworthiness authority for France, notified the FAA that an unsafe condition may exist on certain Model A300-600 and A310 series airplanes. The DGAC advises that there have been several reports of operator difficulty maintaining cabin pressure during cruise. Investigation revealed that pieces of a cargo insulation blanket had been ingested into the forward outflow valve of the pressure regulation subsystem located at frame 39 of the fuselage. Additional reports, obtained during routine inspections on other airplanes, revealed that the same type of cargo insulation blankets were found damaged. The damage was due to broken fasteners on the attachment system, which caused the blankets to detach and tear apart. Such conditions, if not corrected, could result in blanket pieces being ingested into and jamming the forward outflow valve of the pressure regulation subsystem, which could lead to cabin depressurization and adversely affect continued safe flight of the airplane.

Explanation of Relevant Service Information

Airbus has issued Service Bulletins A300-21-6045 and A310-21-2059, both Revision 01, both dated May 22, 2002. The service bulletins describe procedures for modification of the attachment system of the insulation blankets of the forward cargo compartment and related corrective action. The modification includes the installation of insulation brackets on the attachment system, installation of adhesive on the insulation blanket, cutting the blanket and trimming the cutout sections, and re-identification of the blanket. The related corrective action involves repair of any damaged insulation blanket. Accomplishment of the actions specified in the service bulletins is intended to adequately address the identified unsafe condition. The DGAC classified these service bulletins as mandatory and issued French airworthiness directive 2002-626(B) R1, dated March 19, 2003, to ensure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept us informed of the situation described above. We have examined the findings of the DGAC, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletins described previously, except as discussed below.

Difference Between Service Bulletin A310-21-2059, Revision 01, and Proposed AD

The service bulletin recommends prior or concurrent accomplishment of Airbus Service Bulletin A310-21-2012 (Airbus Modification 3881), Revision 03, dated April 9, 1986; however, we have been informed by the manufacturer that this is an inadvertent error. Therefore, this proposed AD follows the applicability in the French airworthiness directive and is applicable to A310 series airplanes on which Airbus Modification 3881 has already been done.

Cost Impact

We estimate that 149 airplanes of U.S. registry would be affected by this proposed AD, that it would take about 3 work hours per airplane to accomplish the proposed modification, and that the average labor rate is $65 per work hour. Required parts would cost about $198 per airplane. Based on these figures, the cost impact of the proposed AD on U.S. operators is estimated to be $58,557, or $393 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2003-NM-12-AD.

Applicability: Model A300 B4-600, B4-600R, C4-605R Variant F, and F4-600R (collectively called A300-600), and A310 series airplanes; certificated in any category; on which Airbus Modification 12340 or 12556 has not been done; and A310 series airplanes on which Airbus Modification 3881 has been done.

Compliance: Required as indicated, unless accomplished previously.

To prevent failure of the attachment system of the cargo insulation blankets, which could result in detachment and consequent tearing of the blankets, resulting in blanket pieces being ingested into and jamming the forward outflow valve of the pressure regulation subsystem, which could lead to cabin depressurization and adversely affect continued safe flight of the airplane, accomplish the following:

Modification

(a) Within 1 year after the effective date of this AD: Modify the attachment system of the insulation blankets of the forward cargo compartment by doing all the applicable actions per the Accomplishment Instructions of Airbus Service Bulletin A300-31-6045 (for Model A300-600 series airplanes) or A310-21-2059 (for Model A310 series airplanes), both Revision 01, both dated May 22, 2002, as applicable. Repair any damaged insulation blanket before further flight, per the applicable service bulletin.

Alternative Methods of Compliance

(b) In accordance with 14 CFR 39.19, the Manager, International Branch, ANM-116, FAA, Transport Airplane Directorate, is authorized to approve alternative methods of compliance for this AD.

Note 1: The subject of this AD is addressed in French airworthiness directive 2002-626(B) R1, dated March 19, 2003.

Issued in Renton, Washington, on March 30, 2004.
Kalene C. Yanamura,
Acting Manager, Transport Airplane Directorate, Aircraft Certification Service.

[FR Doc. 04-7708 Filed 4-5-04; 8:45 am]

BILLING CODE 4910-13-P